DEPARTMENT OF LABOR

Employment and Training Administration

[TA-W-71,238]

John Maneely Company, Wheatland Tube Co. Division, a.k.a. Sharon Tube Co., 134 Mill Street, Sharon, PA; Notice of Termination of Investigation

Pursuant to Section 223 of the Trade Act of 1974, as amended, an investigation was initiated on June 16, 2009 in response to a petition filed by United Steelworkers union officials on behalf of workers of John Maneely Company, Wheatland Tube Co. Division, a.k.a. Sharon Tube Co., 134 Mill Street, Sharon, Pennsylvania.

The subject worker group is covered by an earlier petition (TA-W-71,184) filed on June 16, 2009 that is the subject of an ongoing investigation for which a determination has not yet been issued. Consequently, further investigation in this case would serve no purpose, and the investigation under this petition has been terminated.

Signed at Washington, DC, this 19th day of June 2009.
Richard Church,
Certifying Officer, Division of Trade Adjustment Assistance.

[FR Doc. E9-15768 Filed 7-2-09; 8:45 am]

BILLING CODE 4510-FN-P